FEDERAL COMMUNICATIONS COMMISSION

47 CFR Part 73

[DA 02-2062; MB Docket No. 02-250, RM-10549; MB Docket No. 02-251, RM-10315; MB Docket No. 02-252, RM-10316; MB Docket No. 02-253, RM-10317; MB Docket No. 02-254, RM-10550]

Radio Broadcasting Services; Big Lake, TX, Las Animas, CO, Muleshoe, TX, Rankin, TX, Rocksprings, TX

AGENCY: Federal Communications Commission.

ACTION: Proposed rule.

SUMMARY: This document proposes five new allotments in Big Lake, TX, Las Animas, CO, Muleshoe, TX, Rankin, TX, Rocksprings, TX. The Audio Division requests comment on a petition filed by Linda Crawford proposing the allotment of Channel 296C2 at Big Lake, Texas, as the community's fourth local aural transmission service. Channel 296C2 can be allotted to Big Lake in compliance with the Commission's minimum distance separation requirements with a site restriction of 26.9 kilometers (16.7 miles) south of the community. The coordinates for Channel 296C2 at Big Lake are 30-57-18 North Latitude and 101-23-48 West Longitude. See Supplementary Information, infra.

DATES: Comments must be filed on or before October 21, 2002, and reply comments on or before November 5, 2002.

ADDRESSES: Federal Communications Commission, 445 Twelfth Street, SW., Washington, DC 20554. In addition to filing comments with the FCC, interested parties should serve the petitioner, his counsel, or consultant, as follows: Linda Crawford, 3500 Maple Avenue, #1320, Dallas, Texas 75219, Katherine Pyeatt, 6655 Aintree Circle, Dallas, Texas 75214, Sierra Grande Broadcasting, P.O. Box 51, Des Moines, New Mexico 88418-0051.

FOR FURTHER INFORMATION CONTACT: Deborah A. Dupont, Media Bureau, (202) 418-7072.

SUPPLEMENTARY INFORMATION: This is a synopsis of the Commission's Notice of Proposed Rule Making, MB Docket Nos. 02-250, 02-251, 02-252, 02-253, and 02-254, adopted August 14, 2002, and released August 30, 2002. The full text of this Commission decision is available for inspection and copying during regular business hours at the FCC's Reference Information Center, Portals II, 445 Twelfth Street, SW, Room CY-A257, Washington, DC 20554. The complete text of this decision may also be purchased from the Commission's duplicating contractor, Qualex International, Portals II, 445 12th Street, SW, Room CY-B402, Washington, DC, 20554, telephone 202-863-2893, facsimile 202-863-2898, or via e-mail qualexint@aol.com.

The Audio Division requests comments on a petition filed by Sierra Grande Broadcasting proposing the allotment of Channel 234C1 at Las Animas, Colorado, as the community's second local aural transmission service. Channel 234C1 can be allotted to Las Animas in compliance with the Commission's minimum distance separation requirements with a site restriction of 4.5 kilometers (2.8 miles) southeast of the community. The coordinates for Channel 234C1 at Las Animas are 38-02-18 North Latitude and 103-11-09 West Longitude.

The Audio Division requests comments on a petition filed by Linda Crawford proposing the allotment of Channel 227C1 at Muleshoe, Texas, as the community's second local aural transmission service. Channel 227C1 can be allotted to Muleshoe in compliance with the Commission's minimum distance separation requirements with a site restriction of 35.8 kilometers (22.3 miles) southwest of the community. The coordinates for Channel 227C1 at Muleshoe are 34-02-03 North Latitude and 103-02-08 West Longitude.

The Audio Division requests comments on a petition filed by Katherine Pyeatt proposing the allotment of Channel 273C1 at Rankin, Texas, as the community's first local aural transmission service. Channel 273C1 can be allotted to Rankin in compliance with the Commission's minimum distance separation requirements at center city reference coordinates. The coordinates for Channel 273C1 at Rankin are 31-13-21 North Latitude and 101-56-15 West Longitude.

The Audio Division requests comments on a petition filed by Katherine Pyeatt proposing the allotment of Channel 263A at Rocksprings, Texas, as the community's fourth local aural transmission service. Channel 263A can be allotted to Rocksprings in compliance with the Commission's minimum distance separation requirements with a site restriction of 12.6 kilometers (7.8 miles) west of the community. The coordinates for Channel 263A at Rocksprings are 30-01-30 North Latitude and 100-20-06 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Colorado, is amended by adding Channel 234C1 at Las Animas.

3. Section 73.202(b), the Table of FM Allotments under Texas, is amended by adding Channel 296C2 at Big Lake, by adding Channel 227C1 at Muleshoe, by adding Rankin, Channel 273C1, by adding Channel 263A at Rocksprings.

Federal Communications Commission.
John A. Karousos,
Assistant Chief, Audio Division, Media Bureau.

[FR Doc. 02-22757 Filed 9-6-02; 8:45 am]

BILLING CODE 6712-01-P